DEPARTMENT OF TRANSPORTATION

National Highway Traffic Safety Administration

[Docket No. NHTSA-NHTSA-2023-0062]

Agency Information Collection Activities; Submission to the Office of Management and Budget for Review and Approval; Request for Comment; National Traffic Safety Survey

AGENCY: National Highway Traffic Safety Administration (NHTSA), Department of Transportation (DOT).

ACTION: Notice and request for comments on a request for approval of a new information collection.

SUMMARY: In compliance with the Paperwork Reduction Act of 1995 (PRA), this notice announces that the Information Collection Request (ICR) summarized below will be submitted to the Office of Management and Budget (OMB) for review and approval. The ICR describes the nature of the information collection and its expected burden. The National Highway Traffic Safety Administration (NHTSA) proposes to conduct a new information collection, the National Traffic Safety Survey, a national probability sample of approximately 6,001 adults aged 18 and older per survey administration. This information will be used to better understand the public's behavior and attitudes regarding traffic safety issues including seat belts, distracted driving, new and emerging vehicle technologies, and traffic safety and enforcement. A Federal Register Notice with a 60-day comment period soliciting comments on the following information collection was published on May 17, 2024. NHTSA received one comment in support of the proposed information collection.

DATES: Comments must be submitted on or before August 28, 2024.

ADDRESSES: Written comments and recommendations for the proposed information collection, including suggestions for reducing burden, should be submitted to the Office of Management and Budget at www.reginfo.gov/public/do/PRAMain. To find this particular information collection, select “Currently under Review—Open for Public Comment” or use the search function.

FOR FURTHER INFORMATION CONTACT: For additional information or access to background documents, contact Christine Watson, Ph.D., Office of Behavioral Safety Research (NPD-320), 202-366-7345, Christine.Watson@dot.gov, National Highway Traffic Safety Administration, W46-474, U.S. Department of Transportation, 1200 New Jersey Avenue SE, Washington, DC 20590. Please identify the relevant collection of information by referring to its OMB Control Number.

SUPPLEMENTARY INFORMATION: Under the PRA (44 U.S.C. 3501 et seq.), a Federal agency must receive approval from the Office of Management and Budget (OMB) before it collects certain information from the public and a person is not required to respond to a collection of information by a Federal agency unless the collection displays a valid OMB control number. In compliance with these requirements, this notice announces that the following information collection request will be submitted OMB.

Title: National Traffic Safety Survey.

OMB Control Number: New.

Form Numbers: NHTSA Forms #1805, 1805-S, 1806, 1806-S, 1807, 1807-S, 1808, 1808-S, 1809, 1809-S, 1810, 1810-S.

Type of Request: Request for approval of a new information collection.

Type of Review Requested: Regular.

Requested Expiration Date of Approval: 3 years from date of approval.

Summary of the Collection of Information: The National Highway Traffic Safety Administration (NHTSA) proposes to collect information from the public to better understand the public's behavior and attitudes regarding traffic safety issues including seat belts, distracted driving, new and emerging vehicle technologies, and traffic safety and enforcement. Data would be collected by web and mail among a national probability sample of approximately 6,001 adults aged 18 and older per survey administration. NHTSA is proposing to conduct the full survey twice, two years apart, and conduct a pilot survey involving 250 individuals that would occur before the first full administration of the survey. Participation by respondents would be voluntary. Survey topics include key driving behaviors and experiences, behaviors, attitudes, and knowledge around seat belt use, distracted driving, new vehicle technologies, traffic safety, and traffic safety enforcement.

As part of the NTSS, NHTSA will send out six different version of the survey. Each of the surveys will contain a set of core questions that will be asked across all surveys and a combination of two additional sections consisting of questions related to seat belts, distracted driving, new vehicle technologies, or traffic safety and traffic safety enforcement. Based on the target of collecting 6,001 completed surveys, NHTSA estimates that the full administration of the survey will include approximately 1,000 completed surveys for each of the six versions. In conducting the proposed research, the survey would use computer-assisted web interviewing (i.e., a programmed, self-administered web survey) to minimize recording errors, as well as optical mark recognition and image scanning for the paper and pencil survey to facilitate ease of use and data accuracy. A Spanish-language survey option would be used to minimize language barriers to participation. Surveys would be conducted with respondents using an address-based sampling design that encourages respondents to complete the survey online. Although web would be the primary data collection mode, a paper questionnaire would be sent to households that do not respond to the web invitations. Any Personally Identifiable Information (PII) would be removed as only a de-identified dataset will be delivered to NHTSA. This collection only requires respondents to report their answers; there are no record-keeping costs to the respondents. Individuals receiving a survey invitation will receive compensation in return for their activities.

Description of the Need for the Information and Proposed Use of the Information: NHTSA was established to reduce the number of deaths, injuries, and economic losses resulting from motor vehicle crashes on the Nation's highways. As part of this statutory mandate, NHTSA is authorized to conduct research as a foundation for the development of traffic safety programs. Title 23, United States Code, Section 403 authorizes the Secretary of Transportation (NHTSA by delegation) to conduct research and development activities, including demonstration projects and the collection and analysis of highway and motor vehicle safety data and related information, with respect to all aspects of highway and traffic safety systems and conditions relating to vehicle, highway, driver, passenger, motorcyclist, bicyclist, and pedestrian characteristics; accident causation and investigations; and human behavioral factors and their effect on highway and traffic safety.

A primary way NHTSA identifies problems and supports the development of effective countermeasures is through conducting nationally representative surveys of public attitudes, knowledge, and self-reported behaviors regarding various traffic safety topics. NHTSA has conducted seven previous iterations of the Motor Vehicle Occupant Safety Survey (MVOSS) to ascertain critical information on driver and passenger attitudes and behaviors related to safety; the MVOSS was most recently administered in 2016.¹ However, recent advances in vehicle safety technologies, increases in portable electronic device use, and changes in attitudes towards enforcement have all changed the driving environment, and there is a need to collect up-to-date information about the public's attitudes and behavior on these traffic safety topics to better inform programs aimed at improving the safety of all road users. The NTSS is the “next generation” of NHTSA's previous MVOSS, expanded across more traffic safety topics to increase relevance to current and future traffic safety issues. NTSS will deliver highly relevant, actionable data on current and future topics in traffic safety that support the agency's mission to save lives, prevent injuries, and reduce economic costs resulting from traffic crashes.

¹ Bailly, K., Martin, K. & Block, A. (2019, December). 2016 Motor vehicle occupant safety survey: Volume 1, Methodology report (Report No. DOT HS 812 851). National Highway Traffic Safety Administration. https://rosap.ntl.bts.gov/view/dot/43610.

NHTSA will use the information collected from the NTSS to produce a technical report that presents the results of the survey, as well as a publicly available dataset that does not contain any PII. The technical report will provide aggregate (summary) statistics and tables as well as the results of statistical analysis of the information, but it will not include any PII. The technical report will be shared with State highway safety offices, local governments, policymakers, researchers, educators, advocates, and others who may use the data from this survey to support their work.

60-Day Notice: A Federal Register notice with a 60-day comment period soliciting public comments on the following information collection was published on May 17, 2024 (89 FR 43505). One organization, the National Association of Mutual Insurance Companies (NAMIC), provided comments.

NAMIC expressed support for the project, specifically, that the information collection is “necessary for the proper performance of the functions of the agency” and that “the information will have practical utility.” NAMIC also suggested that insurance industry representatives may be able to provide input on potential applications of results from the proposed information collection.

Affected Public: Participants will be English- and Spanish-speaking U.S. adults (18 years old and older).

Estimated Number of Respondents: Participation in this study will be voluntary, with 6,001 participants sampled from all 50 States and the District of Columbia using address data from the most recent U.S. Postal Service (USPS) computerized Delivery Sequence File (DSF) of residential addresses. An estimated 28,700 households will be contacted and invited to participate. No more than one respondent will be selected per household. Prior to the main survey, a pilot survey will be administered to test the survey and the mailing protocol and procedures. Participation in the pilot study will be voluntary, with approximately 250 participants sampled from all 50 States and the District of Columbia using address data from the most recent USPS computerized DSF of residential addresses. An estimated 1,200 households will be contacted and invited to participate in the pilot study. No more than one respondent will be selected per household.

Frequency: The study will be conducted up to two times during the three-year period for which NHTSA is requesting approval, with a small pilot study occurring several months before the study's full launch.

Estimated Total Annual Burden Hours: To estimate the annul burden of the information collection request, NHTSA first estimated the total number of respondents that would complete each of the six surveys over the course of the three-year period for which NHTSA is seeking approval. Assuming that there will be 250 respondents to the pilot survey and 6,001 respondents in each of the two full administrations of the survey, NHTSA estimates a total of 12,252 respondents in the three-year period, or approximately 4,084 per year. With this estimate, NHTSA estimates that, on average, approximately 681 respondents will complete each of the six surveys annually.

The first survey administration will be a pilot survey will assess the entire survey administration system prior to launching the full survey and will include an experimental condition examining the effectiveness of different messaging techniques used in contact materials to increase survey response rates. The pilot administration will survey approximately 250 randomly selected respondents. This will be followed by a first administration of the survey with approximately 6,001 randomly selected respondents during the main data collection effort. NHTSA may exercise an option to survey approximately 6,001 randomly selected respondents during a second survey administration. For purposes of this information collection request, NHTSA assumes that it will conduct the second administration.

For the pilot survey, a mass mailing using USPS DSF to 1,200 addresses, of which 1,140 are expected to be valid contact addresses, is expected to reach about 250 willing respondents ages 18 and older. Respondents are expected to take 30 minutes to complete the survey (250 people, 30 minutes average length, 125 hours total).

For each survey administration, a mass mailing using USPS DSF to 28,700 addresses, of which 27,265 are expected to be valid contact addresses, is expected to reach about 6,001 willing participants ages 18 and older. As with the pilot survey, participants are expected to take 30 minutes to complete the survey.

Table 1 provides an overview of the survey administrations.

Table 1—Overview of the Survey Administrations
Information collection | Number of respondents | Burden per response (minutes) | Total burden hours
Pilot Survey | 250 | 30 | 125
Survey Administration 1 | 6,001 | 30 | 3,001
Survey Administration 2 | 6,001 | 30 | 3,001
Total | 12,252 |  | 6,127

Since the survey administrations would occur over three years, NHTSA averaged the number of respondents responding to each of the six surveys over the three-year period to estimate that each of the surveys would have approximately 681 respondents per year. The burden estimates are based on this estimate.

NHTSA estimates that each of the six versions of the survey will have approximately 681 respondents each year and estimates that it takes approximately 30 minutes to complete each survey. Accordingly, NHTSA estimates that each of the surveys will have a burden of 341 hours per year, for a total of 2,046 hours of annual burden for all six of the surveys.

NHTSA estimates the opportunity cost to respondents using an average hourly wage. The May 2022 mean hourly wage for all occupations in the United States was $29.76 per hour.² Therefore, NHTSA estimates the total annual opportunity cost to be approximately $60,889 ($29.76 × 2,046 = $60,888.96). Table 2 provides a summary of the estimated annual burden hours and labor costs associated with those submissions.

² U.S. Bureau of Labor Statistics. (2023, April 25). May 2022 National Occupational Employment and Wage Estimates. U.S. Bureau of Labor Statistics. https://www.bls.gov/oes/current/oes_nat.htm#00-0000.

Table 2—Annual Burden Estimates
Information collection | Number of respondents | Burden per response (minutes) | Hourly opportunity cost | Opportunity cost response | Total opportunity cost | Total burden hours
Survey Version 1 | 681 | 30 | $29.76 | $14.88 | $10,148.16 | 341
Survey Version 2 | 681 | 30 | 29.76 | 14.88 | 10,148.16 | 341
Survey Version 3 | 681 | 30 | 29.76 | 14.88 | 10,148.16 | 341
Survey Version 4 | 681 | 30 | 29.76 | 14.88 | 10,148.16 | 341
Survey Version 5 | 681 | 30 | 29.76 | 14.88 | 10,148.16 | 341
Survey Version 6 | 681 | 30 | 29.76 | 14.88 | 10,148.16 | 341
Total |  |  |  |  | 60,888.96 | 2,046

Estimated Total Annual Burden Cost: Participation in this study is voluntary, and there are no costs to respondents beyond the time spent completing the questionnaires.

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995; 44 U.S.C. chapter 35, as amended; 49 CFR 1.49; and DOT Order 1351.29A.

Nanda Narayanan Srinivasan,
Associate Administrator, Research and Program Development.

[FR Doc. 2024-16633 Filed 7-26-24; 8:45 am]

BILLING CODE 4910-59-P